DEPARTMENT OF TRANSPORTATION

Federal Railroad Administration

[Docket Number FRA-2013-0019]

Petition for Extension of Waiver of Compliance

Under part 211 of title 49 Code of Federal Regulations (CFR), this document provides the public notice that by letter dated July 8, 2022, Old Augusta Railroad (OAR) petitioned the Federal Railroad Administration (FRA) for an extension of a waiver of compliance from certain provisions of the hours of service laws contained at title 49 United States Code (U.S.C.) section 21103(a), in accordance with the authority of section 21102(b). The relevant FRA Docket Number is FRA-2013-0019.

Specifically, OAR requested an extension of its existing waiver of relief from the provisions of 49 U.S.C. 21103(a), which prohibits a train employee from remaining or going on duty for a period in excess of 12 consecutive hours. Section 21102(b) allows the Department to exempt railroads with 15 or fewer employees from the restriction outlined at § 21103(a)(4)(B). The existing waiver allows OAR employees to initiate an on-duty period each day for 7 consecutive days followed by 72 hours off duty. In support of its petition, OAR states that its operation “has not had a single incident attributable to fatigue during the effective period of the waiver.” OAR also explains that its employees have unanimously consented to the waiver, and it has “full support from both management and the train service employees.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by October 11, 2022 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-18374 Filed 8-24-22; 8:45 am]

BILLING CODE 4910-06-P